DEPARTMENT OF HEALTH AND HUMAN SERVICES

National Institutes of Health

Proposed Collection; Comment Request: Healthy Communities Study: How Communities Shape Children's Health (HCS)

SUMMARY: In compliance with the requirement of Section 3506(c)(2)(A) of the Paperwork Reduction Act of 1995, for opportunity for public comment on proposed data collection projects, the National Heart, Lung, and Blood Institute (NHLBI), the National Institutes of Health (NIH) will publish periodic summaries of proposed projects to be submitted to the Office of Management and Budget (OMB) for review and approval.

Proposed Collection: Title: Healthy Communities Study: How Communities Shape Children's Health (HCS). Type of Information Collection Request: Revision—OMB# 0925-0649. Need and Use of Information Collection: The HCS will address the need for a cross-cutting national study of community programs and policies and their relationship to childhood obesity. The HCS is an observational study of communities that aims to (1) determine the associations between community programs/policies and Body Mass Index (BMI), diet, and physical activity in children; and (2) identify the community, family, and child factors that modify or mediate the associations between community programs/policies and BMI, diet, and physical activity in children. A total of 264 communities and over 21,000 elementary and middle school children and their parents will be part of the HCS. A HCS community is defined as a high school catchment area. The study examines quantitative and qualitative information obtained from community-based initiatives; community characteristics (e.g., school environment); measurements of children's physical activity levels and dietary practices; and children's and parents' BMIs. Results from the Healthy Communities Study may influence the future development and funding of policies and programs to reduce childhood obesity. Furthermore, HCS results will be published in scientific journals and will be used for the development of future research initiatives targeting childhood obesity. Frequency of Response: One time. Affected Public: Families or households; businesses, other for-profit, and non-profit. Type of Respondents: Parents, children, community key informants (who have knowledge about community programs/policies related to healthy nutrition, physical activity, and healthy weight of children), food service personnel, physical education instructors, school liaisons, and physicians or medical secretaries. The annual reporting burden is as follows: Estimated number of respondents: 207,029; Estimated Number of Responses per Respondent: 1; and Estimated Total Burden Hours Requested: 35,588. The annualized cost to respondents is estimated at $458,189. There are no capital, operating, or maintenance costs to report.

Type of respondents | Estimated number of respondents | Estimated number of responses per respondent | Average burden per response (in hours) | Estimated total annual burden hours requested
Parents (screening) | 118,800 | 1 | 0.17 | 8,078
Parents/Caregivers | 21,384 | 1 | 1.56 | 13,344
Second Parents | 10,692 | 1 | 0.12 | 513
Parents who refuse to participate | 2,640 | 1 | 0.17 | 180
Children | 21,384 | 1 | 1.04 | 8,896
Key Informants (screening) | 10,560 | 1 | 0.08 | 338
Key Informants | 3,168 | 1 | 2.25 | 2,851
Food Service Personnel | 1,056 | 1 | 0.08 | 34
District Food Service Administrator/Manager | 264 | 1 | 0.50 | 53
Physical Education Instructors | 1,056 | 1 | 0.25 | 106
School Liaisons | 1,056 | 1 | 0.42 | 177
Physicians/medical secretaries | 14,969 | 1 | 0.17 | 1,018
Total |  |  |  | 35,588

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments contact: Dr. Sonia Arteaga, NIH, NHLBI, 6701 Rockledge Drive, MSC 7936, Bethesda, MD 20892-7936, or call non-toll free number (301) 435-0377 or Email your request, including your address to: hcs@nhlbi.nih.gov.

Comments Due Date: Comments regarding this information collection are best assured of having their full effect if received within 60-days of the date of this publication.

Dated: November 20, 2012.
Lynn Susulske,
NHLBI Project Clearance Liaison, National Institutes of Health.
Michael S. Lauer,
Director, DCVS, National Institutes of Health.

[FR Doc. 2012-28998 Filed 11-29-12; 8:45 am]

BILLING CODE 4140-01-P